DEPARTMENT OF LABOR

Employment and Training Administration

[TA-W-73,477]

International Game Technology (IGT), Machine Accounting and ABS (Bonusing and BEII), Engineering, Product Assurance (Research Support, Software PA Engineering, Integration Engineering, Product Management, Tech Support Engineering, Administrative Assistant, Systems Administration, Integration Engineering, and SWE) Including On-Site Leased Workers From AppleOne, HCL America, VersaShore, Inc., Clear Peak Holdings, LLC, and Comsys Services, LLC, Corvallis, OR; Amended Certification Regarding Eligibility To Apply for Worker Adjustment Assistance

In accordance with section 223 of the Trade Act of 1974, as amended (“Act”), 19 U.S.C. 2273, the Department of Labor issued a Certification of Eligibility to Apply for Worker Adjustment Assistance on May 18, 2010, applicable to workers of International Game Technology (IGT), Machine Accounting and ABS (Bonusing and BEII), Engineering, including on-site leased workers from AppleOne, HCL America, VersaShore, Inc., Clear Peak Holding, LLC and Comsys Services, LLC, Corvallis, Oregon. The notice was published in the Federal Register on June 7, 2010 (75 FR 32223).

At the request of a company official, the Department reviewed the certification for workers of the subject firm. The workers are engaged in activities related to engineering services in support of production of electronic gaming systems and equipment.

New findings show that the intent of the petitioner was to include Product Assurance (which includes: Research Support, Software PA Engineering, Integration Engineering, Product Management, Tech Support Engineering, Administrative Assistant, Systems Administration, Integration Engineering and SWE) located at the Corvallis, Oregon location of International Game Technology (IGT), Machine Accounting and ABS (Bonusing and BEII), and Engineering. The relevant data supplied to the Department by International Game Technology (IGT) during its investigation included Product Assurance (which includes Research Support, Software PA Engineering, Integration Engineering, Product Management, Tech Support Engineering, Administrative Assistant, Systems Administration, Integration Engineering and SWE).

Accordingly, the Department is amending the certification to extend coverage to the workers of Product Assurance (which includes Research Support, Software PA Engineering, Integration Engineering, Product Management, Tech Support Engineering, Administrative Assistant, Systems Administration, Integration Engineering and SWE) at the Corvallis, Oregon location of the subject firm.

The intent of the Department's certification is to include all workers of the subject firm who were adversely affected by a shift of all services to China.

The amended notice applicable to TA-W-73,477 is hereby issued as follows:

All workers of International Game Technology (IGT), Machine Accounting and ABS (Bonusing and BEII), Engineering, Product Assurance (which includes Research Support, Software PA Engineering, Integration Engineering, Product Management, Tech Support Engineering, Administrative Assistant, Systems Administration, Integration Engineering and SWE) including on-site leased workers from AppleOne, HCL America, VersaShore, Inc., Clear Peak Holding, LLC, and Comsys Services, LLC, Corvallis, Oregon (TA-W-73,477) and International Game Technology (IGT), Casinolink, Engineering, including on-site leased workers from AppleOne, HCL America, VersaShore, Inc., Clear Peak Holdings, LLC, and Comsys Services, LLC, Carlsbad, California (TA-W-73,477A), who became totally or partially separated from employment on or after February 5, 2009, through May 18, 2012, and all workers in the group threatened with total or partial separation from employment on date of certification through two years from the date of certification, are eligible to apply for adjustment assistance under Chapter 2 of Title II of the Trade Act of 1974, as amended.

Signed in Washington, DC this 10th day of November 2010.
Elliott S. Kushner,
Certifying Officer, Division of Trade Adjustment Assistance.

[FR Doc. 2010-29098 Filed 11-17-10; 8:45 am]

BILLING CODE 4510-FN-P